DEPARTMENT OF ENERGY

Federal Energy Regulatory Commission

[Project No.14638-000]

Las Vegas Wash Hydro, LLC; Notice of Preliminary Permit Application Accepted for Filing and Soliciting Comments, Motions To Intervene, and Competing Applications

On October 2, 2014, the Las Vegas Wash Hydro, LLC, filed an application for a preliminary permit, pursuant to section 4(f) of the Federal Power Act (FPA), proposing to study the feasibility of the Las Vegas Wash Hydroelectric Project to be located on Las Vegas Wash, in the city of Lake Las Vegas, Clark County, Nevada. The sole purpose of a preliminary permit, if issued, is to grant the permit holder priority to file a license application during the permit term. A preliminary permit does not authorize the permit holder to perform any land-disturbing activities or otherwise enter upon lands or waters owned by others without the owners' express permission.

The proposed project would use the existing Las Vegas Wash and associated diversion and penstocks. The source of water through the project is waste streams from the metropolitan area of Las Vegas, NV. Flows would return to the Las Vegas Wash at or near the existing point of return. The proposed project would be on privately owned lands and prescriptive easement right-of-ways. The existing Las Vegas Wash pipelines are owned by the City of Henderson, NV, and located on private lands by easement. The project would consist of the following: (1) An existing concrete diversion/inlet structure with two gates; (2) two existing 10,204-foot-long, 84-inch-diameter, side-by-side penstocks that pass beneath Lake Las Vegas; (3) a new connection to the existing penstocks; (4) a new powerhouse located adjacent to the existing outfall structure for the Las Vegas Wash, containing one 2.1-megawatt Francis turbine; (5) a switchyard; and (6) a 900-foot-long, 15-kV transmission line, which would interconnect into the utility distribution system owned by NV Energy. Existing roads would access the project. The project would operate in a run-of-river mode using flows of the Las Vegas Wash consistent with historical operations. One of the two penstocks would be used for bypass flows. The estimated annual generation of the Las Vegas Wash Hydroelectric Project would be 16.5 gigawatt-hours.

Applicant Contact: Mr. Ted Sorenson, P.E., Sorenson Engineering, 5203 S. 11th East, Idaho Falls, Idaho 83404; phone: (208) 522-8069.

FERC Contact: Claire McGrath; phone: (202) 502-8290.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14638-000.

More information about this project, including a copy of the application, can be viewed or printed on the “eLibrary” link of Commission's Web site at http://www.ferc.gov/docs-filing/elibrary.asp. Enter the docket number (P-14638) in the docket number field to access the document. For assistance, contact FERC Online Support.

Dated: October 22, 2014.
Kimberly D. Bose,
Secretary.

[FR Doc. 2014-25626 Filed 10-28-14; 8:45 am]

BILLING CODE 6717-01-P